DEPARTMENT OF STATE

[Public Notice 7106]

Notice of Receipt of Cultural Property Request From the Government of the Hellenic Republic

Greece, concerned that its cultural heritage is in jeopardy from pillage, made a request to the Government of the United States under Article 9 of the 1970 UNESCO Convention. The request was received on July 2, 2010, by the United States Department of State. It seeks U.S. import restrictions on archaeological and ethnological material from Greece dating to the Neolithic Era through the mid-eighteenth century.

The specific contents of this request are treated as confidential government-to-government information.

Information about the Act and U.S. implementation of the 1970 UNESCO Convention can be found at http://exchanges.state.gov/heritage/. A public summary of the Greek Request will be posted on the Web site.

Dated: August 18, 2010.
Ann Stock,
Assistant Secretary, Bureau of Educational and Cultural Affairs, Department of State.

[FR Doc. 2010-21287 Filed 8-25-10; 8:45 am]

BILLING CODE 4710-10-P